ENVIRONMENTAL PROTECTION AGENCY

[10005-42-Region 2]

Proposed CERCLA Cost Recovery Settlement for the Mariners Marsh Site on Staten Island, Richmond County, New York

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA, with the City of New York (“Settling Party”) for the Mariners Marsh Site (“Site”), located on Staten Island, Richmond County, New York.

DATES: Comments must be submitted on or before March 16, 2020.

ADDRESSES: The proposed settlement is available for public inspection at EPA Region 2 offices at 290 Broadway, New York, New York 10007-1866. Comments should reference the Mariners Marsh Park Site, Staten Island, Richmond County, New York, Index No. II-CERCLA-02-2019-2002. To request a copy of the proposed settlement agreement, please contact the EPA employee identified below.

FOR FURTHER INFORMATION CONTACT: Henry Guzman, Attorney, Office of Regional Counsel, New York/Caribbean Superfund Branch, U.S. Environmental Protection Agency, 290 Broadway, 17th Floor, New York, NY 10007-1866. Email: guzman.henry@epa.gov Telephone: 212-637-3166.

SUPPLEMENTARY INFORMATION: The Settling Party agrees to pay $2,347,000.00 to the EPA Hazardous Substance Superfund in reimbursement of EPA's past response costs paid at or in connection with the Site from EPA's initial involvement at the Site through to the effective date. The payment represents reimbursement of 70% of EPA's total costs incurred (totaling $3,330,365.26), including costs associated with the excavation, stockpiling, transport, and disposal of contaminated soils at the Site. The settlement includes a covenant by EPA not to sue or to take administrative action against the Settling Party pursuant to section 107(a) of CERCLA, 42 U.S.C. 9607(a), regarding the past response costs as defined in the settlement agreement. For thirty (30) days following the date of publication of this document, EPA will accept written comments relating to the settlement. EPA will consider all timely comments received and may modify or withdraw its consent to the settlement if comments received disclose facts or considerations that indicate that the proposed settlement is inappropriate, improper, or inadequate. EPA's response to any comments received will be available for public inspection at EPA Region 2, 290 Broadway, New York, New York 10007-1866.

Dated: February 4, 2020.
Eric J. Wilson,
Acting Director, Superfund & Emergency Management Division, U.S. Environmental Protection Agency, Region 2.

[FR Doc. 2020-02917 Filed 2-12-20; 8:45 am]

BILLING CODE 6560-50-P